DEPARTMENT OF THE INTERIOR

Fish and Wildlife Service

[FWS-R8-ES-2015-N176; FXES11130800000-156-FF08EVEN00]

Proposed Safe Harbor Agreement for the Reestablishment of the California Red-Legged Frog in the Santa Monica Mountains, California

AGENCY: Fish and Wildlife Service, Interior.

ACTION: Notice of availability; receipt of permit application.

SUMMARY: We, the U.S. Fish and Wildlife Service (Service), have received, from the California Department of Parks and Recreation, Angeles District (applicant), an application for an enhancement of survival permit for the federally threatened California red-legged frog, under the Endangered Species Act of 1973, as amended (Act). This permit application includes a proposed safe harbor agreement (agreement) between the applicant and the Service. The agreement and permit application are available for public comment.

DATES: To ensure we are able to consider your comments, please send them to us by December 7, 2015.

ADDRESSES: The documents are available on our Web site, at http://www.fws.gov/ventura. A limited number of printed copies are available by request. You may request the documents or submit comments by any of the following methods.

• Email: fw8SHASAMO@fws.gov. Include “SAMO SHA” in the subject line of the message.

• U.S. Mail: Field Supervisor; U.S. Fish and Wildlife Service; Ventura Fish and Wildlife Office; 2493 Portola Road, Suite B; Ventura, CA 93003.

• Fax: Attn: Field Supervisor, (805) 644-3958.

FOR FURTHER INFORMATION CONTACT: Eric Morrissette, Senior Biologist, Ventura Fish and Wildlife Office, at the address above or by telephone at (805) 644-1766.

SUPPLEMENTARY INFORMATION: We have received an application for an enhancement of survival permit for the threatened California red-legged frog (Rana draytonii) under the Act. This permit application includes a proposed safe harbor agreement (agreement) between the applicant and the Service. The agreement and permit application are available for public comment.

Availability of Documents

You may obtain copies of the documents for review by using one of the methods in ADDRESSES, or by contacting the individual named in the FOR FURTHER INFORMATION CONTACT section. You also may make an appointment to view the documents at the Ventura Fish and Wildlife Office (see ADDRESSES) during normal business hours.

Background

Under a safe harbor agreement, participating landowners voluntarily undertake management activities on their property to benefit species listed under the Act (16 U.S.C. 1531 et seq.). Safe harbor agreements, and the subsequent permits that are issued under section 10(a)(1)(A) of the Act, encourage private and other non-Federal property owners to implement conservation efforts for listed species by assuring property owners that they will not be subjected to increased land use restrictions as a result of efforts to attract or increase the numbers or distribution of a listed species on their property. Application requirements and issuance criteria for permits through safe harbor agreements are found in 50 CFR 17.22(c) and 17.32(c).

Proposed Agreement

We have worked with the applicant to develop this proposed agreement for the conservation of the California red-legged frog on the properties subject to the agreement (enrolled properties), which are owned and managed by the applicant. The four enrolled properties are: (1) Point Mugu State Park, La Jolla Canyon Watershed, Ventura County; (2) Leo Carrillo State Park, Arroyo Sequit Watershed, Los Angeles County; (3) Malibu Creek State Park, Monte Nido Watershed, Los Angeles County; and (4) Topanga State Park, Temescal Creek, Santa Monica Watershed, Los Angeles County. The area of each enrolled property follows: The area of La Jolla Canyon Watershed within Point Mugu State Park is 2,790 acres; the area of Arroyo Sequit Watershed within Leo Carrillo State Park is 1,803 acres; the area of Monte Nido Watershed within Malibu Creek State Park is 5,420 acres; and the area of Temescal Creek, Santa Monica Watershed within Topanga State Park is 6,917 acres. The total combined area of the enrolled properties is 16,930 acres. The enrolled properties occur within the historic range of the California red-legged frog. Within the 16,930 acres of land comprising the enrolled properties, approximately 135 acres contain suitable habitat for the California red-legged frog. California red-legged frogs will be translocated and reestablished into suitable habitat at the enrolled properties according to a written agreement between the applicant and Service. Under this written agreement, the existing habitat for the California red-legged frog will be managed for the species, and additional habitat for the species may be created in the future. We expect that the activities proposed in the agreement will result in the reestablishment of the California red-legged frog in suitable habitat that will be maintained and remain relatively undisturbed, thus resulting in a net conservation benefit for the species.

The agreement provides for the translocation and reestablishment of the California red-legged frog at the enrolled properties, and the management of its suitable habitat. The proposed duration of the agreement and term of the enhancement of survival permit is 50 years. The agreement fully describes the proposed management activities to be undertaken by the applicant and the net conservation benefits expected to be gained for the California red-legged frog.

What Would Happen Upon Approval of Agreement

Upon approval of this agreement and satisfactory completion of all other applicable legal requirements, and consistent with the Service's Safe Harbor Policy, published in the Federal Register on June 17, 1999 (64 FR 32717), the Service would issue a permit to the applicant authorizing take of the California red-legged frog incidental to the implementation of the management activities specified in the agreement, including translocation and reestablishment of California red-legged frogs to the enrolled properties, incidental to other lawful uses of the enrolled property, including normal, routine land management activities and recreation, including hiking, horseback riding, bicycling, camping, and picnicking; incidental to monitoring and surveying activities; and incidental to the return to pre-agreement conditions (baseline).

Management activities included in the agreement will provide for the translocation and reestablishment of the California red-legged frog and management of its habitat within the enrolled properties. The objective of such activities is to reestablish self-sustaining populations of the California red-legged frog within its historic range in the suitable habitat at the enrolled properties. Take of California red-legged frogs in the form of capture would occur during translocation activities, thereby necessitating take authority under the permit. Take incidental to activities associated with the management of California red-legged frog habitat is unlikely; however, it is possible that in the course of such activities or other lawful activities on the enrolled property, the applicant could incidentally take individual California red-legged frogs, thereby necessitating take authority under the permit.

Baseline conditions at the enrolled properties, as described in the agreement, have been established, consisting of two elements, the current area of suitable habitat for the California red-legged frog and the elevated presence of California red-legged frog populations. Under the agreement, an elevated baseline for the California red-legged frog populations means that, in anticipation that translocation and reestablishment of the California red-legged frog is successful, the populations of California red-legged frogs would remain at the enrolled properties at the end of the agreement term where there currently are no California red-legged frog populations and under other circumstances the baseline for the species presence could be zero. The elevated baseline has been established to aid in reaching recovery objectives for the California red-legged frog by implementing recovery activities with the intent to create and maintain self-sustaining populations of California red-legged frogs at the enrolled properties post-translocation. The applicant must maintain baseline on the enrolled properties in order to receive coverage regarding incidental take of California red-legged frogs. The agreement and requested permit would allow the applicant to return the enrolled property to baseline conditions for habitat, and to the elevated baseline for the California red-legged frog populations, after the end of the term of the agreement and prior to the expiration of the 50-year permit, if so desired by the applicant.

Public Review and Comments

The Service has made a preliminary determination that the proposed agreement and permit application are eligible for categorical exclusion under the National Environmental Policy Act of 1969 (NEPA) (42 U.S.C. 4321 et seq.). We explain the basis for this determination in an Environmental Action Statement, which also is available for public review.

Individuals wishing copies of the permit application, copies of our draft Environmental Action Statement, and copies of the agreement, including a map of the proposed permit area, should contact the Ventura Fish and Wildlife Office (see ADDRESSES).

If you wish to comment on the permit application or the agreement, you may submit your comments to one of the addresses listed in the ADDRESSES section of this document. Comments and materials received, including names and addresses of respondents, will be available for public review, by appointment, during normal business hours at the address in the ADDRESSES section above and will become part of the public record, under section 10(c) of the Act.

Before including your address, phone number, email address, or other personal identifying information in your comment, you should be aware that your entire comment—including your personal identifying information—may be made publicly available at any time. While you can ask us in your comment to withhold your personal identifying information from public review, we cannot guarantee that we will be able to do so.

Next Steps

We will evaluate this permit application, associated documents, and comments we receive to determine whether the permit application meets the requirements of section 10(a) of the Act and NEPA regulations. If we determine that the requirements are met, we will sign the proposed agreement and issue an enhancement of survival permit under section 10(a)(1)(A) of the Act to the applicant for take of the California red-legged frog incidental to otherwise lawful activities in accordance with the terms of the agreement. We will not make our final decision until after the end of the 30-day comment period and will fully consider all comments we receive during the comment period.

The Service provides this notice under section 10(c) of the Act and under implementing regulations for NEPA (40 CFR 1506.6).

Stephen P. Henry,
Field Supervisor, Ventura Fish and Wildlife Office.

[FR Doc. 2015-28200 Filed 11-4-15; 8:45 am]

BILLING CODE 4313-15-P